DEPARTMENT OF DEFENSE

Department of the Navy

[Docket ID: USN-2022-HQ-0005]

Proposed Collection; Comment Request

AGENCY: Department of the Navy, Department of Defense (DoD).

ACTION: 60-Day information collection notice.

SUMMARY: In compliance with the Paperwork Reduction Act of 1995, the United States Marine Corps (USMC) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 25, 2022.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Business and Support Services Division, Headquarters, United States Marine Corps, 3044 Catlin Avenue, ATTN: Mr. James Willson-Quayle, or call 703-432-0440.

SUPPLEMENTARY INFORMATION: Title; Associated Form; and OMB number: Non-Appropriated Fund Human Resource Management System; OMB Control Number 0703-0071.

Needs and Uses: Respondents are applicants who are responding to an MCCS (Marine Corps Community Service) job posting on the MCCS Civilian Careers website, accessible at www.usmc-mccs.org/ careers. The application delivers a systematic process which guides the applicants in completing and submitting it through the MCCS Civilian Careers website. Applicants are then able to log into their accounts and view their profile, track the status of their current application, and apply for future job postings. Maintaining the information collection in the Non-Appropriated Fund Human Resource Management System (NAF HRMS) enables MCCS to successfully manage and administer an effective and efficient recruiting and hiring process. In addition, the NAF HRMS capabilities streamline the employment application process, reduce processing and recruiter response times, and decrease the need for applicant calls and inquiries, thereby improving the applicant's experience.

Affected Public: Business or other for-profit; individuals or households.

Annual Burden Hours: 38,933.

Number of Respondents: 77,866.

Responses per Respondent: 1.

Annual Responses: 77,866.

Average Burden per Response: 30 minutes.

Frequency: On occasion.

Dated: February 16, 2022.
Aaron T. Siegel,
Alternate OSD Federal Register Liaison Officer, Department of Defense.

[FR Doc. 2022-03825 Filed 2-22-22; 8:45 am]

BILLING CODE 5001-06-P